DEPARTMENT OF TRANSPORTATION

Coast Guard

[USCG-2000-6795]

Towing Safety Advisory Committee

AGENCY: Coast Guard, DOT.

ACTION: Notice of meetings.

SUMMARY: The Towing Safety Advisory Committee (TSAC) and its working groups will meet to discuss various issues relating to shallow-draft inland and coastal waterway navigation and towing safety. All meetings will be open to the public.

DATES: TSAC will meet on Thursday, March 16, 2000 from 8 a.m. to 12:30 p.m. The working groups will meet on Wednesday, March 15, 2000, from 9 a.m. to 3:30 p.m. These meetings may close early if all business is finished. Written material and requests to make oral presentations should reach the Coast Guard on or before March 7, 2000. Requests to have a copy of your material distributed to each member of the committee or working groups should reach the Coast Guard on or before March 3, 2000.

ADDRESSES: TSAC will meet in room 2415, U.S. Coast Guard Headquarters, 2100 Second Street SW., Washington, DC. The working groups will begin meeting in the same room and may move to separate spaces designated at that time.

Send written material and requests to make oral presentations to Mr. Gerald P. Miante, Commandant (G-MSO-1), Room 1210, U.S. Coast Guard Headquarters, 2100 Second Street SW., Washington, DC 20593-0001. This notice is available on the Internet at http://dms.dot.gov.

FOR FURTHER INFORMATION CONTACT: Mr. Gerald P. Miante, Assistant Executive Director, TSAC, telephone 202-267-0229, fax 202-267-4570, or e-mail at: gmiante@comdt.uscg.mil.

SUPPLEMENTARY INFORMATION: Notice of these meetings is given under the Federal Advisory Committee Act, 5 U.S.C. App. 2.

Agenda of Meeting

The agenda tentatively includes the following:

(1) Report of the Voyage Planning Work Group.

(2) Report of the Electronic Charting Work Group.

(3) Report from the Tug Assistance and Remote Anchor Release Work Group.

(4) Report of the Communications Work Group.

(5) Report of the Casualty Analysis Work Group.

(6) Status on Cargo Securing Practices.

(7) Project update on the Interim Rule (IR) “Licensing and Manning for Officers of Towing Vessels”.

(8) Project update concerning Current Initiatives Regarding Crew Alertness.

(9) Project update on the Automated Information System (AIS).

(10) Project update on the International Maritime Information Safety System (IMISS).

(11) Discussion on (a) two task statements: Cargo Securing and Barge Structural Failure; and (b) unique features of the harbor services/ship assist sector.

Procedural

All meetings are open to the public. Please note that the meetings may close early if all business is finished. At the Chair's discretion, members of the public may make oral presentations during the meetings. If you would like to make an oral presentation at a meeting, please notify the Assistant Executive Director no later than March 7, 2000. Written material for distribution at a meeting should reach the Coast Guard no later than March 3, 2000. If you would like a copy of your material distributed to each member of the committee or working groups in advance of a meeting, please submit 25 copies to the Assistant Executive Director no later than February 28, 2000.

Information on Services for Individuals with Disabilities

For information on facilities or services for individuals with disabilities or to request special assistance at the meetings, contact the Assistant Executive Director as soon as possible.

Dated: January 24, 2000.
Joseph J. Angelo,
Director of Standards, Marine Safety and Environmental Protection.

[FR Doc. 00-2146 Filed 2-1-00; 8:45 am]

BILLING CODE 4910-15-P